DEPARTMENT OF ENERGY

Federal Energy Regulatory Commission

[Project No. 12790-001]

Pomperaug Hydro Project; Andrew Peklo III; Notice Extending Deadline for Comments

On January 18, 2012, Office of Energy Projects staff held a technical meeting in Woodbury, CT. The meeting was transcribed by a court reporter; however, due to various processing delays, the transcript was not added to the public record for the Pomperaug Hydro Project (FERC No. 12790) until March 21, 2012. Because the transcript for the technical meeting was not available to the public until after the expiration of the comment period established in the Commission's January 12, 2012, notice, the deadline for filing comments is extended to April 13, 2012.

Comments may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street NE., Washington, DC 20426.

If you have questions, please contact Steve Kartalia at (202) 502-6131, or via email at stephen.kartalia@ferc.gov.

Dated: March 29, 2012.
Kimberly D. Bose,
Secretary.

[FR Doc. 2012-8155 Filed 4-4-12; 8:45 am]

BILLING CODE 6717-01-P